NATIONAL SCIENCE FOUNDATION

Subcommittee on Global Change Research; Notice of Availability of Draft Reports and Request for Comment

AGENCY: National Science Foundation.

ACTION: Notice of the availability of draft reports and request for comment.

SUMMARY: Three working groups of the Intergovernmental Panel on Climate Change (IPCC) have prepared draft versions of their Third Assessment Report (TAR) on Climate Change. The IPCC Secretariat requires comments on this report from national governments so that the Secretariat can meet its obligations to member governments of the IPCC. The U.S. Subcommittee on Global Change Research (SGCR) has been assigned responsibility for coordinating the preparation of the comments of the United States Government.

Through this notice, the SGCR is announcing the availability of the draft Third Assessment Report upon its receipt from IPCC and is requesting comments on the draft report by the deadlines indicated from scientists, experts and other interested organizations and individuals. A list of chapters making up the draft Third Assessment Report is included with this notice to facilitate determination of interest in participating in this review. The comments received will be reviewed, combined, and incorporated, as appropriate, in the process of preparing the set of official USG comments to the IPCC. It should be noted that this is a draft report and should not be cited or quoted as it is still undergoing review and is likely to be changed based on reviewer comments.

Requests to be a reviewer should indicate: (1) Name, postal address, email address, and other contact information; (2) the qualifications and general area of expertise of the reviewer to review specific parts of the report; and (3) the working group and chapters that the reviewer will review (see attached listing of working groups and chapters). Based on these requests, information will be provided about how to access and download from the Web copies of the relevant chapters and on the format of comments to be submitted; paper copies of the chapters are not being offered for review.

DATES: Requests to be a reviewer and for information on being provided Web access to the draft reports for review purposes only may be submitted up until the dates on which the review comments are due. Reviewer comments on the draft Third Assessment Report (preferably submitted as an attachment to an email message) must be received at the email address indicated below on or before the closing dates listed.

The draft of the Working Group I Report is expected to be available about April 17, and comments in response to this notice must be received by May 8, 2000.

The draft of the Working Group II Report is expected to be available about May 15, and comments in response to this notice must be received by June 12, 2000.

The draft of the Working Group III Report is expected to be available about May 20, and comments in response to this notice must be received by June 26, 2000.

The SGCR cannot extend these deadlines because the member countries of the IPCC have established a strict timetable for the review process and require prompt submission of USG comments.

ADDRESSES: Requests to serve as a reviewer of the report are being handled by the Global Change Research Information Office (GCRIO) that is sponsored by the SGCR. Request to be a reviewer can be submitted by: (1) Filing out a form on the GCRIO Web site at <http://www/gcrio.org/ipccform/>; (2) sending an email request with the required information (see above) to “help@gcrio.org” or (3) sending a letter to GCRIO at P.O. Box 1000, 61 Route 9W, Palisades, New York 10964.

Review comments should be submitted via email over the Internet as a Microsoft Word or WordPerfect attachment using a separate file for each chapter that is reviewed. Review comments should be formatted based on the guidelines provided by GCRIO upon notification of how to access the report. Review comments on the Working Group I report should be emailed to IPCCTARW1@usgcrp.gov; review comments on the Working Group II report should be emailed to IPCCTARWG2@usgcrp.gov; and review comments on the Working Group III report should be emailed to IPCCTARWG3@usgcrp.gov.

If email submission is not possible, review comments may be submitted via mail to: IPCC TAR Comments, Office of the U.S. Global Change Research Program, 400 Virginia Avenue, SW., Suite 750, Washington, DC 20024.

FOR FURTHER INFORMATION CONTACT: IPCC TAR Review Coordinator, Office of the U.S. Global Change Research Program, Suite 750, 400 Virginia Avenue, SW., Washington DC 20024; or telephone 202-488-8630, fax at 202-488-8681, or send an email to office@usgcrp.gov.

SUPPLEMENTARY INFORMATION:

I. Background

The Intergovernmental Panel on Climate Change (IPCC) was jointly established in 1988 by the United Nations Environment Programme and the World Meteorological Organization to conduct periodic assessments of the state of knowledge concerning global climate change. The IPCC has formed working groups to study various aspects of climate change.

Working Group I addresses the state of the science concerning what is happening and is projected to happen to the climate system; Working Group II addresses the state of the science concerning regional, sectoral and cross-sectoral impacts of, and adaptation to, climate change, including the social dimensions (e.g., equity) and economic costs and benefits; and Working Group III addresses the state of science concerning mitigation of climate change, including the social aspects and economic costs and benefits, and methodological aspects of cross-cutting issues.

Each Working Group is charged with issuing periodic assessments. The first Scientific Assessment of Climate Change, for example, was prepared in 1990 and the Second Assessment Report was prepared in 1995. Special and supplementary reports have also been prepared (additional information on the IPCC is available on their Web site at http://www.ipcc.ch/). Periodic assessment reports such as these provide a comprehensive statement of the state of knowledge concerning topics such as scientific information, environmental impacts, response strategies, and other issues concerning climate change.

II. Review Process

The member countries of the IPCC have established a timetable that includes a brief period for comments from governments so that the IPCC Secretariat can meet its obligations for a timely completion of the IPCC Third Assessment Report.

The Subcommittee on Global Change Research is responsible for coordinating preparation of the U.S. Government response, and through this notice is seeking the views of experts and interested organizations and individuals to help in the formulation of its response. Comments that are provided will be reviewed, integrated, and used, as appropriate, in the preparation of the official U.S. Government comments.

An information sheet providing specific requests for formatting submissions of comments will be provided with notification of how to access the chapter on the Web. All comments must indicate who is submitting the comments, indicate their affiliation, and provide an indication of their area of expertise in accord with the IPCC practice of all reviewer comments being attributed. In this review process, the emphasis should be on providing detailed recommendations on specific chapters for which the reviewer has established expertise or interest.

To be most useful, comments should be specific in suggesting alternative working or other changes to the text of a particular paragraph or chapter and, where appropriate, offer supporting information and peer-reviewed references supporting the proposed changes. Comments on the overall tone and scientific validity of the chapters and comments expressing the reasons for agreement or disagreement with specific major points in the Executive Summary of the chapters are also solicited.

The materials available for review include the draft chapters and draft Summary for Policymakers for each of the three Working Groups. Reviewers should undertake detailed review only of those specific chapters of the draft IPCC Working Group Third Assessment Report for which they have expertise or special interest. Reviews of the draft Summary for Policymakers should consider the consistency of any chapter and the selection and representation of its major points in the draft Summary for Policymakers.

Reviews of each chapter should be submitted separately and the reviews of the different working group reports should be submitted as separate files to the appropriate email address indicated above.

Based on chapter titles from the expert review draft, the chapters that are expected to be available for review from the various working groups include the following:

Working Group I: Climate System and Climate Change

WB I Summary for Policymakers

1. The Climate System—an Overview

2. Observed Climate Variability and Change

3. Carbon Cycle & Atmosphere CO2

4. Atmospheric Chemistry & Radiative Trace Gases

5. Aerosols and Indirect Cloud Effects

6. Radiative Forcing of Climate

7. Physical Climate Processes and Feedbacks

8. Global Climate Models—Evaluation

9. Global Climate Models—Projections

10. Regional Information—Evaluation and Projections

11. Changes in Sea Level

12. Detection of Climate Change and Attribution of Causes

13. Climate Change Scenario Development

14. Advancing our Understanding

Working Group II: Climate Change; Impacts, Adaptation, and Vulnerability

WG II Summary for Policymakers

1. Overview

2. Methods and Tools

3. Scenarios in Climate Change Impact, Adaptation, and Vulnerability Assessment

4. Hydrology and Water Resources

5. Natural and Managed Ecosystems

6. Coastal Zones and Marine Ecosystems

7. Energy, Industry, and Settlements

8. Financial Services

9. Human Health

10. Africa

11. Asia

12. Australasia

13. Europe

14. Latin America

15. North America

16. Polar Regions (Arctic and Antarctic)

17. Small Island States

18. Adaptation to Climate Change in the Context of Sustainable Development and Equity

19. Synthesis and Integration of Impacts, Adaptation, and Vulnerability

Working Group III: Mitigation of Climate Change

WG III Summary for Policymakers Introduction

1. Scope of the Report

2. Greenhouse Gas Emissions Mitigation Scenarios and Implications

3. Technological and Economic Potential of GHG Emissions Reduction

4. Technological and Economic Potential of Options to Enhance, Maintain and Manage Biological Carbon Reservoirs and Geo-Engineering

5. Barriers, Opportunities and Market Potential of Technologies and Practices

6. Polices, Measures and Instruments

7. Costing Methodologies for Mitigation (coordinated with WG-II)

8. Global, Regional and National Costs and Ancillary Benefits of Mitigation

9. Sector Costs and Ancillary Benefits of Mitigation

10. Decision Making Frameworks (coordinated with WG-11)

III. Public Availability of Comments

Subsequent to the U.S. assembly of its comments, the collection of comments received will be available for public inspection weekdays during normal business hours at the library of the National Science Foundation in Arlington, VA. Appointments can be made by calling 703-306-0658. Note that the IPCC draft reports are only available over the Web and are not archived at the NSF library.

Dated: April 13, 2000.
Karen J. York,
Committee Management Officer.

[FR Doc. 00-10121 Filed 4-21-00; 8:45 am]

BILLING CODE 7555-01-M